DEPARTMENT OF TRANSPORTATION

Federal Highway Administration

Notice of Availability of the Finding of No Significant Impact for the I-15 St. George Improved Project in Utah and Final Federal Agency Actions

AGENCY: Federal Highway Administration (FHWA), Department of Transportation, Utah Department of Transportation (UDOT).

ACTION: Notice of availability and notice of limitations on claims for judicial review of actions by UDOT and other Federal agencies.

SUMMARY: The FHWA, on behalf of UDOT, is issuing this notice to announce the availability of the Finding of No Significant Impact (FONSI) for the Interstate 15 (I-15) St. George Improved Project, Bluff Street to St. George Boulevard, in St. George City, Washington County, Utah. In addition, this notice is being issued to announce actions taken by UDOT that are final Federal agency actions related to the project referenced above. Those actions grant licenses, permits, and/or approvals for the project. The FONSI provides details on the Selected Alternative for the proposed improvements.

DATES: This decision became operative on October 12, 2023. By this notice, FHWA, on behalf of UDOT, is advising the public of final agency actions subject to 23 U.S.C. 139(l)(1). A claim seeking judicial review of the Federal agency actions on the highway project will be barred unless the claim is filed on or before March 25, 2024. If the Federal law that authorizes judicial review of a claim provides a time period of less than 150 days for filing such claim, then that shorter time period still applies.

FOR FURTHER INFORMATION CONTACT: Carissa Watanabe, Environmental Program Manager, UDOT Environmental Services, P.O. Box 143600, Salt Lake City, UT 84114; (503) 939-3798; email: cwatanabe@utah.gov. UDOT's normal business hours are 8 a.m. to 5 p.m. (Mountain Time Zone), Monday through Friday, except State and Federal holidays.

SUPPLEMENTARY INFORMATION: The environmental review, consultation, and other actions required by applicable Federal environmental laws for this action are being, or have been, carried out by UDOT pursuant to 23 U.S.C. 327 and a Memorandum of Understanding (MOU) dated May 26, 2022, and executed by FHWA and UDOT. Actions taken by UDOT on FHWA's behalf pursuant to 23 U.S.C. 327 constitute Federal agency actions for purposes of Federal law. Notice is hereby given that UDOT has taken final agency actions subject to 23 U.S.C. 139(l)(1) by issuing licenses, permits, and/or approvals for the I-15 St. George Improved project in the State of Utah.

UDOT's purpose for this project is to improve operations of the I-15 Bluff Street (Milepost 6) and St. George Boulevard (Milepost 8) interchanges; improve access from I-15 to regional destinations in St. George City; and improve mobility options for a broad range of users, including pedestrians and cyclists. UDOT has selected the Single Point Urban Interchange (SPUI) alternative. The selected alternative would construct: a new SPUI interchange on I-15 at 700 South; roadway improvements along 700 South and the adjacent intersections; and a new 12-foot-wide shared-use trail.

The project is identified in UDOT's adopted 2023-2028 State Transportation Improvement Program as project number 18218 with funding identified for final design and construction. The project is also included in the Dixie Metropolitan Planning Organization (MPO) 2023-2050 Regional Transportation Plan approved in May 2023 and the Dixie MPO 2023-2027 Transportation Improvement Plan.

The actions by UDOT, and the laws under which such actions were taken, are described in the Environmental Assessment (EA) approved on April 25, 2023, and the FONSI (Finding of No Significant Impact for I-15 St. George Improved; Bluff Street to St. George Boulevard; St. George City, Washington County, Utah, Project No. S-I15-1(136)6) approved on October 12, 2023, and other documents in the project record. The EA and FONSI are available for review at the UDOT Central Complex, 4501 South 2700 West, Salt Lake City, Utah. In addition, the EA and FONSI documents can be viewed and downloaded from the project website at https://udotinput.utah.gov/i15stgeorge. This notice applies to the EA, the FONSI, and all other UDOT and Federal agency decisions and other actions with respect to the project as of the issuance date of this notice and all laws under which such actions were taken, including but not limited to the following laws (including their implementing regulations):

1. General: National Environmental Policy Act [42 U.S.C. 4321-4370m-12]; Federal-Aid Highway Act [23 U.S.C. 109 and 23 U.S.C. 128]; 23 U.S.C. 139.

2. Air: Clean Air Act [42 U.S.C. 7401-7671(q)].

3. Land: Section 4(f) of the Department of Transportation Act of 1966 [23 U.S.C. 138 and 49 U.S.C. 303]; Landscaping and Scenic Enhancement (Wildflowers) [23 U.S.C. 319].

4. Wildlife: Endangered Species Act [16 U.S.C. 1531-1544], Fish and Wildlife Coordination Act [16 U.S.C. 661-667d]; Migratory Bird Treaty Act [16 U.S.C. 703-712]; Bald and Golden Eagle Protection Act [16 U.S.C. 668-668d].

5. Historic and Cultural Resources: National Historic Preservation Act of 1966, as amended [54 U.S.C. 300101-307108]; Archaeological Resources Protection Act of 1979 [16 U.S.C. 470aa-470mm]; Archeological and Historic Preservation Act [54 U.S.C. 312501-312508]; Native American Grave Protection and Repatriation Act [25 U.S.C. 3001-3013].

6. Social and Economic: Title VI of Civil Rights Act of 1964 [42 U.S.C. 2000d-2000d-7]; American Indian Religious Freedom Act [42 U.S.C. 1996]; Farmland Protection Policy Act [7 U.S.C. 4201-4209].

7. Wetlands and Water Resources: Clean Water Act [33 U.S.C. 1251-1389]; Coastal Zone Management Act [16 U.S.C. 1451-1465]; Land and Water Conservation Fund Act [54 U.S.C. 200301-200310]; Safe Drinking Water Act [42 U.S.C. 300(f)-300(j)(6)]; Rivers and Harbors Appropriation Act of 1899, as amended [33 U.S.C. 401-418]; Emergency Wetlands Resources Act [16 U.S.C. 3921, 3931]; Flood Disaster Protection Act [42 U.S.C. 4001-4128].

8. Hazardous Materials: Comprehensive Environmental Response, Compensation, and Liability Act [42 U.S.C. 9601-9675]; Superfund Amendments and Reauthorization Act of 1986 [42 U.S.C. 9671-9675]; Resource Conservation and Recovery Act [42 U.S.C. 6901-6992k].

9. Noise: Noise Control Act of 1972 [42 U.S.C. 4901-4918].

10. Executive Orders: E.O. 11990 Protection of Wetlands; E.O. 11988 Floodplain Management; E.O. 12898 Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species; E.O. 13985 Advancing Racial Equity and Support for Underserved Communities Through the Federal Government; E.O. 13990 Protecting Public Health and the Environment and Restoring Science to Tackle the Climate Crisis; E.O. 14008 Tackling the Climate Crisis at Home and Abroad.

(Catalog of Federal Domestic Assistance Program Number 20.205, Highway Planning and Construction. The regulations implementing Executive Order 12372 regarding intergovernmental consultation on Federal programs and activities apply to this program.)

Authority: 23 U.S.C. 139 (l)(1).

Ivan Marrero,
Division Administrator, Federal Highway Administration, Salt Lake City, Utah.

[FR Doc. 2023-23687 Filed 10-25-23; 8:45 am]

BILLING CODE 4910-RY-P